DEPARTMENT OF ENERGY

Federal Energy Regulatory Commission

ILP Effectiveness Evaluation 2010; Georgia Power Company; et al.; Notice of Interviews, Teleconferences, Regional Workshops and Multi-Stakeholder Technical Conference on The Integrated Licensing Process

May 18, 2010.

ILP Effectiveness Evaluation 2010. | Docket No. AD10-7-000.
Georgia Power Company | Project No. 2237-013.
Public Service Company of New Hampshire | Project No. 7528-004.
Pacific Gas & Electric Company | Project No. 803-068.
Pacific Gas & Electric Company | Project No. 2106-059.
PPL, Montana, LLC | Project No. 2301-019.
Energy Northwest | Project No. 2244-022.
Appalachian Power Company | Project No. 2210-169
Appalachian Power Company | Project No. 739-022.
Public Service Company of Colorado | Project No. 400-051
Public Service Company of Colorado | Project No. 12589-001.
Green Island Power Authority | Project No. 13-023.
City of Seattle | Project No. 2144-038.
Public Utility District of Snohomish Co., WA | Project No. 2157-188.
Northern Lights, Inc. | Project No. 2594-013.
Onyx Specialty Papers, Inc | Project No. 2985-006.
Mahoning Creek Hydro. Co., LLC | Project No. 12555-004.
Vermont Marble Power Division of Omya Inc | Project No. 2558-029.
FPL Energy Maine Hydro LLC | Project No. 2615-037.
Douglas County PUD | Project No. 2149-131.

As part of our commitment to ensuring the effectiveness of the Integrated Licensing Process (ILP), Federal Energy Regulatory Commission (FERC) is undertaking a second effectiveness evaluation. To facilitate this review, FERC has contracted with Kearns & West to conduct the 2010 ILP Effectiveness Evaluation. This effort includes conducting interviews and teleconferences with a cross-section of stakeholders, four regional workshops, and a multi-stakeholder effectiveness technical conference in Washington, DC. We invite stakeholders to provide lessons learned from their experience as a participant in the ILP.

Interviews and Teleconferences

Over the next few weeks, members of Kearns & West will be conducting phone interviews with a number of representatives of agencies, tribes, non-governmental organizations, licensees, Commission staff, and others involved in the above-identified hydropower licensing proceedings. Applicants in these proceedings have completed the pre-filing efforts and filed license applications using the ILP. Other participants in these or other ILP proceedings are encouraged to share their thoughts at the workshops and technical conference. Following the completion of the interviews, three teleconferences by sectors (i.e. applicants, resource agencies and tribes, and non-governmental organizations) will be held between July 19 and July 30, 2010.

Regional Effectiveness Workshops

Commission staff will hold four regional workshops on the ILP in September 2010. The purpose of the regional workshops is to seek further feedback on experiences in the ILP and to explore ideas to better implement the ILP. Because of ex parte concerns, discussions will be limited to process rather than the merits of any proceeding before the Commission.

FERC is exploring hosting the Regional Effectiveness Workshops in the following locations: New York, California, Virginia or North Carolina, and Washington State.

The workshops are open to the public and all interested parties are invited to attend and participate. Meeting details and logistics will be noticed and posted on the Commission's Web page and calendar (http://www.ferc.gov/).

Multi-Stakeholder ILP Effectiveness Technical Conference

A one-day, multi-stakeholder technical conference will be held on Wednesday, November 3, 2010, from 11 a.m. (EST) to 3 p.m., in the Commission Meeting Room at the Federal Energy Regulatory Commission, 888 First Street, NW., Washington, DC. The technical conference will focus on gathering information to evaluate the effectiveness of the ILP and refining ideas to better implement the ILP. The technical conference is open to the public and all interested parties are invited to attend and participate.

We are exploring opportunities for remote listening, participating, and viewing the Technical Conference. Final details will be noticed and posted no later than October 1, 2010.

For additional information, please contact David Turner at 202-502-6091 or david.turner@ferc.gov.

Kimberly D. Bose,
Secretary.

[FR Doc. 2010-12497 Filed 5-24-10; 8:45 am]

BILLING CODE 6717-01-P